DEPARTMENT OF AGRICULTURE

Animal and Plant Health Inspection Service

[Docket No. 00-018-1]

Notice of Request for Extension of Approval of an Information Collection

AGENCY: Animal and Plant Health Inspection Service, USDA.

ACTION: Extension of approval of an information collection; comment request.

SUMMARY: In accordance with the Paperwork Reduction Act of 1995, this notice announces the Animal and Plant Health Inspection Service's intention to request an extension of approval of an information collection in support of the Karnal bunt regulations.

DATES: We invite you to comment on this docket. We will consider all comments that we receive by May 22, 2000.

ADDRESSES: Please send your comment and three copies to: Docket No. 00-018-1, Regulatory Analysis and Development, PPD, APHIS, Suite 3C03, 4700 River Road, Unit 118, Riverdale, MD 20737-1238. Please state that your comment refers to Docket No. 00-018-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information regarding the Karnal bunt regulations, contact Dr. Vedpal S. Malik, National Karnal Bunt Coordinator, PPQ, APHIS, 4700 River Road Unit 134, Riverdale, MD 20737-1236; (301) 734-6774. For copies of more detailed information on the information collection, contact Ms. Celeste Sickles, APHIS' Information Collection Coordinator, at (301) 734-7477.

SUPPLEMENTARY INFORMATION: Title: Karnal Bunt.

OMB Number: 0579-0121.

Expiration Date of Approval: April 30, 2000.

Type of Request: Extension of approval of an information collection.

Abstract: We have regulations in place to prevent the interstate spread of Karnal bunt, a fungal disease of wheat. These regulations restrict the interstate movement of wheat plants and plant parts (including grain, seed, and straw) from areas where Karnal bunt has been detected. The regulations concerning interstate movements require the use of limited permits, certificates, compliance agreements, and other documents that are needed to inform the public of our requirements and authorize the interstate movement of regulated articles.

In addition, our regulations have offered compensation as part of our Karnal bunt regulatory program since the 1995-1996 crop season. We pay this compensation to reduce the economic effects of our Karnal bunt quarantine on wheat producers and other individuals and to help obtain their cooperation in our Karnal bunt eradication efforts. Our regulations regarding compensation require program participants to engage in several information collection activities (including the completion of a Karnal bunt compensation worksheet and compensation form) that are necessary for us to run an effective compensation program.

We are asking the Office of Management and Budget (OMB) to approve, for an additional 3 years, our use of these information collections in connection with our regulations.

The purpose of this notice is to solicit comments from the public (as well as affected agencies) concerning this information collection activity. We need this outside input to help us:

(1) Evaluate whether the information collection is necessary for the proper performance of our Agency's functions, including whether the information will have practical utility;

(2) Evaluate the accuracy of our estimate of the burden of the information collection, including the validity of the methodology and assumptions used;

(3) Enhance the quality, utility, and clarity of the information to be collected; and

(4) Minimize the burden of the information collection on those who are to respond (such as, through the use of appropriate automated, electronic, mechanical, or other technological collection techniques or other forms of information technology, e.g., permitting electronic submission of responses).

Estimate of burden: The public reporting burden for this collection of information is estimated to average .1818 hours per response.

Respondents: Wheat growers, handlers, owners of grain storage facilities, flour millers, seed companies, and Farm Service Administration personnel.

Estimated annual number of respondents: 1,261.

Estimated annual number of responses per respondent: 9.26407.

Estimated annual number of responses: 11,682.

Estimated total annual burden on respondents: 2,124 hours. (Due to rounding, the total annual burden hours may not equal the product of the annual number of responses multiplied by the average reporting burden per response.)

All responses to this notice will be summarized and included in the request for OMB approval. All comments will also become a matter of public record.

Done in Washington, DC, this 16th day of March 2000.
Bobby R. Acord,
Acting Administrator, Animal and Plant Health Inspection Service.

[FR Doc. 00-7015 Filed 3-21-00; 8:45 am]

BILLING CODE 3410-34-P